DEPARTMENT OF HEALTH AND HUMAN SERVICES

Administration for Children and Families

Submission for OMB Review; Comment Request

Title: Child Care and Development Fund Plan for States and Territories FY 2016-2018 (ACF-118).

OMB No.: 0970-0114.

Description: The Child Care and Development Fund (CCDF) Plan (the Plan) for States and Territories is required from each CCDF Lead Agency in accordance with Section 658E of the Child Care and Development Block Grant (CCDBG Act), 42 U.S.C.9858 as amended by the CCDBG Act of 2014, Public Law113-186. The Plan, submitted on the ACF-118, is now required triennially, and will remain in effect for three years. The Plan provides ACF and the public with a description of, and assurance about, the States' and Territories' child care programs. ACF extended the deadline for the submission of the State and Territory FY 2016-2018 CCDF Plan from July 1, 2015 to March 1, 2016. The extension provides States and Territories more time to engage partner agencies and stakeholders, brief legislators on needed statutory changes, and develop meaningful implementation plans. The extension does not extend the FY 2016-2018 3-year plan period; Plans will be effective June 1, 2016 through September 30, 2018.

The Office of Child Care (OCC) has given thoughtful consideration to the comments received during the 60-day Public Comment Period. The Plan has been revised to incorporate public comments, better align the Plan with the new program requirements of the CCDBG Act of 2014 and includes additional guidance and clarification where appropriate in order to improve the quality of information that is being collected. This 30-day second Public Comment Period provides an opportunity for the public to submit comments to the Office of Management and Budget (OMB). The Tribal Plan (ACF-118a) will be addressed under a separate notice.

Respondents: State and Territory CCDF Lead Agencies (56).

Annual Burden Estimates
Instrument | Number of respondents | Number of responses per respondent | Average burden hours per response | Total burden hours
ACF-118 | 56 | 0.50 | 162.50 | 4,550

Estimated Total Annual Burden Hours: 4,550.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-24270 Filed 9-23-15; 8:45 am]

BILLING CODE 4184-01-P